DEPARTMENT OF ENERGY

Federal Energy Regulatory Commission

Combined Notice of Filings

August 31, 2010.

Take notice that the Commission has received the following Natural Gas Pipeline Rate and Refund Report filings:

Docket Numbers: RP10-1113-000.

Applicants: PetroLogistics Natural Gas Storage, LLC.

Description: PetroLogistics Natural Gas Storage, LLC submits First Revised Sheet No. 13 et al. to FERC Gas Tariff, Original Volume No. 1, to be effective 9/27/2010.

Filed Date: 08/27/2010.

Accession Number: 20100830-0201.

Comment Date: 5 p.m. Eastern Time on Wednesday, September 08, 2010.

Docket Numbers: RP10-1116-000.

Applicants: Steckman Ridge, LP.

Description: Steckman Ridge, LP submits tariff filing per 154.204: Order No. 587-U Compliance Filing to be effective 11/1/2010.

Filed Date: 08/30/2010.

Accession Number: 20100830-5105.

Comment Date: 5 p.m. Eastern Time on Monday, September 13, 2010.

Docket Numbers: RP10-1117-000.

Applicants: Texas Eastern Transmission, LP.

Description: Texas Eastern Transmission, LP submits Order No. 587-U Compliance Filing of its FERC Gas Tariff, Eight Revised Volume No. 1, to be effective 11/1/2010.

Filed Date: 08/30/2010.

Accession Number: 20100830-5115.

Comment Date: 5 p.m. Eastern Time on Monday, September 13, 2010.

Docket Numbers: RP10-1118-000.

Applicants: Algonquin Gas Transmission, LLC.

Description: Algonquin Gas Transmission, LLC submits their tariff filing per to Order No. 587-U Compliance Filing, to be effective 11/1/2010.

Filed Date: 08/30/2010.

Accession Number: 20100830-5120.

Comment Date: 5 p.m. Eastern Time on Monday, September 13, 2010.

Docket Numbers: RP10-1119-000.

Applicants: National Fuel Gas Supply Corporation.

Description: National Fuel Gas Supply Corporation submits tariff filing per 154.203: National Fuel Baseline to be effective 8/30/2010.

Filed Date: 08/30/2010.

Accession Number: 20100830-5125.

Comment Date: 5 p.m. Eastern Time on Monday, September 13, 2010.

Docket Numbers: RP10-1120-000.

Applicants: Egan Hub Storage, LLC.

Description: Egan Hub Storage, LLC submits tariff filing per 154.204: Order No. 587-U Compliance Filing to be effective 11/1/2010.

Filed Date: 08/30/2010.

Accession Number: 20100830-5126.

Comment Date: 5 p.m. Eastern Time on Monday, September 13, 2010.

Docket Numbers: RP10-1121-000.

Applicants: East Tennessee Natural Gas, LLC.

Description: East Tennessee Natural Gas, LLC submits tariff filing per 154.204: Order No. 587-U Compliance Filing to be effective 11/1/2010.

Filed Date: 08/30/2010.

Accession Number: 20100830-5127.

Comment Date: 5 p.m. Eastern Time on Monday, September 13, 2010.

Docket Numbers: RP10-1122-000.

Applicants: Saltville Gas Storage Company LLC.

Description: Saltville Gas Storage Company LLC submits tariff filing per 154.204: Order No. 587-U Compliance Filing to be effective 11/1/2010.

Filed Date: 08/30/2010.

Accession Number: 20100830-5128.

Comment Date: 5 p.m. Eastern Time on Monday, September 13, 2010.

Docket Numbers: RP10-1123-000.

Applicants: Gulf Crossing Pipeline Company LLC.

Description: Gulf Crossing Pipeline Company LLC submits tariff filing per 154.204: 2010 ACA to be effective 10/1/2010.

Filed Date: 08/31/2010.

Accession Number: 20100831-5021.

Comment Date: 5 p.m. Eastern Time on Monday, September 13, 2010.

Docket Numbers: RP10-1124-000.

Applicants: Stingray Pipeline Company, LLC.

Description: Stingray Pipeline Company, LLC submits tariff filing per 154.203: Order 587-U Compliance to be effective 11/1/2010.

Filed Date: 08/31/2010.

Accession Number: 20100831-5026.

Comment Date: 5 p.m. Eastern Time on Monday, September 13, 2010.

Docket Numbers: RP10-1125-000.

Applicants: Enbridge Offshore Pipelines (UTOS) LLC.

Description: Enbridge Offshore Pipelines (UTOS) LLC submits tariff filing per 154.203: Order 587-U Compliance to be effective 11/1/2010.

Filed Date: 08/31/2010.

Accession Number: 20100831-5027.

Comment Date: 5 p.m. Eastern Time on Monday, September 13, 2010.

Docket Numbers: RP10-1126-000.

Applicants: National Fuel Gas Supply Corporation.

Description: National Fuel Gas Supply Corporation submits tariff filing per 154.203: IG Rate 08-31-10 to be effective 9/1/2010.

Filed Date: 08/31/2010.

Accession Number: 20100831-5029.

Comment Date: 5 p.m. Eastern Time on Monday, September 13, 2010.

Docket Numbers: RP10-1127-000.

Applicants: Transcontinental Gas Pipe Line Company.

Description: Transcontinental Gas Pipe Line Company, LLC submits tariff filing per 154.203: Delta Lateral Project Compliance with Docket No. CP09-237 to be effective 10/1/2010.

Filed Date: 08/31/2010.

Accession Number: 20100831-5038.

Comment Date: 5 p.m. Eastern Time on Monday, September 13, 2010.

Docket Numbers: RP10-1128-000.

Applicants: Transcontinental Gas Pipe Line Company.

Description: Transcontinental Gas Pipe Line Company, LLC submits tariff filing per 154.203: RP01-245-031 Compliance (Station 85 Pooling) to be effective 10/1/2010.

Filed Date: 08/31/2010.

Accession Number: 20100831-5046.

Comment Date: 5 p.m. Eastern Time on Monday, September 13, 2010.

Docket Numbers: RP10-1129-000.

Applicants: White River Hub, LLC.

Description: White River Hub, LLC submits tariff filing per 154.402: ACA 2010 to be effective 10/1/2010 under RP10-01129-000 Filing Type: 630.

Filed Date: 08/31/2010.

Accession Number: 20100831-5069.

Comment Date: 5 p.m. Eastern Time on Monday, September 13, 2010.

Any person desiring to intervene or to protest in any of the above proceedings must file in accordance with Rules 211 and 214 of the Commission's Rules of Practice and Procedure (18 CFR 385.211 and 385.214) on or before 5 p.m. Eastern time on the specified comment date. It is not necessary to separately intervene again in a subdocket related to a compliance filing if you have previously intervened in the same docket. Protests will be considered by the Commission in determining the appropriate action to be taken, but will not serve to make protestants parties to the proceeding. Anyone filing a motion to intervene or protest must serve a copy of that document on the Applicant. In reference to filings initiating a new proceeding, interventions or protests submitted on or before the comment deadline need not be served on persons other than the Applicant.

The Commission encourages electronic submission of protests and interventions in lieu of paper, using the FERC Online links at http://www.ferc.gov. To facilitate electronic service, persons with Internet access who will eFile a document and/or be listed as a contact for an intervenor must create and validate an eRegistration account using the eRegistration link. Select the eFiling link to log on and submit the intervention or protests.

Persons unable to file electronically should submit an original and 14 copies of the intervention or protest to the Federal Energy Regulatory Commission, 888 First St., NE., Washington, DC 20426.

The filings in the above proceedings are accessible in the Commission's eLibrary system by clicking on the appropriate link in the above list. They are also available for review in the Commission's Public Reference Room in Washington, DC. There is an eSubscription link on the Web site that enables subscribers to receive e-mail notification when a document is added to a subscribed docket(s). For assistance with any FERC Online service, please e-mail FERCOnlineSupport@ferc.gov, or call (866) 208-3676 (toll free). For TTY, call (202) 502-8659.

Nathaniel J. Davis, Sr.,
Deputy Secretary.

[FR Doc. 2010-22256 Filed 9-7-10; 8:45 am]

BILLING CODE 6717-01-P